POSTAL SERVICE

39 CFR Part 111

Domestic Mail Manual Changes for Bedloaded Bundles of Periodicals

AGENCY: Postal Service.

ACTION: Proposed rule.

SUMMARY: The Postal Service is seeking comments on a proposal to delete the standards in the Domestic Mail Manual (DMM) that allow bundles (more than one package strapped together) of Periodicals flat-size mail to be bedloaded instead of placed in a sack or on a pallet.

DATES: Comments must be received on or before January 22, 2002.

ADDRESSES: Send written comments to the Manager, Mail Preparation and Standards, U.S. Postal Service, 1735 North Lynn Street, Room 3025, Arlington VA 22209-6038. Written comments may be submitted via fax to (703) 292-4058 or via email to aemmerth@email.usps.gov (please use “Fed Reg Bedloaded Bundles” as the subject line of the message). Copies of all written comments will be available for inspection and photocopying between 9 a.m. and 4 p.m., Monday through Friday, at the above address.

FOR FURTHER INFORMATION CONTACT: Anne Emmerth at (703) 292-3641.

SUPPLEMENTARY INFORMATION: Current DMM M210.5.0 and M220.5.0 allow authorized mailers to place packages of Presorted rate and carrier route rate Periodicals flats directly into a truck or trailer if the packages are secured together into bundles containing a minimum of 20 pounds of mail (instead of sacking or palletizing those packages). Such preparation requires Postal Service authorization from Business Mailer Support (BMS). It should be noted that DMM M820 does not include any provisions for bedloading bundles of automation rate flats. The records of the Postal Service indicate that there are no mailers who are preparing bedloaded bundles in this manner. Because of this, and because bedloaded bundles are generally not cost-efficient for the Postal Service to handle and process, the Postal Service is proposing to delete the options to prepare Periodicals flats as bedloaded bundles.

If this proposal is adopted, then all Periodicals flats must be prepared in sacks or on pallets.

This change does not apply to mailers who transport packages of Periodicals to destination delivery units under exceptional dispatch.

Although exempt from the notice and comment requirements of the Administrative Procedures Act (5 U.S.C. 553(b), (c)) regarding proposed rulemaking by 39 U.S.C. 410(a), the Postal Service invites comments on the following proposed revisions to the DMM, incorporated by reference into the Code of Federal Regulations (see 39 CFR part 111).

List of Subjects in 39 CFR Part 111

Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Amend the following sections of the Domestic Mail Manual (DMM) as set forth below:

M Mail Preparation and Sortation

M000 General Preparation Standards

M010 Mailpieces

M011 Basic Standards

1.0 Terms and Conditions

* * * * *

1.3 Preparation Instructions

[Delete item z, which defines a “bundle.” Renumber items aa through ac as items z through ab, respectively.]

* * * * *

M013 Optional Endorsement Lines

1.0 Use

1.1 Basic Standards

[Revise 1.1 by deleting the entry for SCF.]

* * * * *

M200 Periodicals (Nonautomation)

M210 Presorted Rates

* * * * *

[Delete section 5.0, Bedloaded Bundles (Flat-Size Pieces). Renumber section 6.0 as 5.0.]

* * * * *

M220 Carrier Route Rates

* * * * *

[Delete section 5.0, Bedloaded Bundles (Flat-Size Pieces). Renumber section 6.0 as 5.0.]

* * * * *

An appropriate amendment to 39 CFR 111 to reflect these changes will be published if the proposal is adopted.

Stanley F. Mires,
Chief Counsel, Legislative.

[FR Doc. 01-31386 Filed 12-19-01; 8:45 am]

BILLING CODE 7710-12-P